DEPARTMENT OF HEALTH AND HUMAN SERVICES

Centers for Disease Control and Prevention

[30Day-25-1268]

Agency Forms Undergoing Paperwork Reduction Act Review

In accordance with the Paperwork Reduction Act of 1995, the Centers for Disease Control and Prevention (CDC) has submitted the information collection request titled “Drug Overdose Surveillance and Epidemiology (DOSE)” to the Office of Management and Budget (OMB) for review and approval. CDC previously published a “Proposed Data Collection Submitted for Public Comment and Recommendations” notice on November 7, 2024, to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Drug Overdose Surveillance and Epidemiology (DOSE) (OMB Control No. 0920-1268, Exp. 09/30/25)—Revision—National Center for Injury Prevention and Control (NCIPC), Centers for Disease Control and Prevention (CDC).

Background and Brief Description

In 2022, a total of 107,941 drug overdose deaths occurred, corresponding to an age-adjusted rate of 32.6 per 100,000 population, quadruple from the 2002 rate (8.2). From 2021 to 2022, the synthetic opioid-involved death rate other than methadone increased 4.1%, from 21.8 to 22.7 per 100,000. The psychostimulant-involved age-adjusted death rate increased more than 34 times, from 0.3 in 2002 to 10.4 in 2022. Two states had a significant increase in non-fatal overdoses between 2023 and 2024 (DOSE dashboard). In response to the growing severity of the opioid overdose epidemic, the US government declared the opioid overdose epidemic a public health emergency on October 26, 2017. The opioid overdose epidemic is one of the U.S. Department of Health and Human Services (HHS) top priorities. In 2021, HHS expanded their Overdose Prevention Strategy to focus on four strategic priorities: primary prevention, harm reduction, evidence-based treatment, and recovery support.

DOSE 2.0 is a critical element in the support of research and surveillance to collect more timely and more specific data through accelerating the speed at which CDC reports drug overdose data. DOSE 2.0 data collection integrates, expands, and enhances previous data sharing efforts with public health departments initiated under ESOOS and DOSE 1.0. The goal of DOSE 2.0 is to conduct surveillance of approximately 80% of all ED facilities in a given jurisdiction for drug overdoses through the end of the OD2A-S cooperative agreement in 2028. In 2023, OD2A-S provided funding for 90 jurisdictions: 49 states and the District of Columbia share data with DOSE 2.0. Though we had hoped to capture data from all 50 states and the District of Columbia, only 49 states and the District of Columbia applied for this funding announcement.

Drug Overdose Surveillance and Epidemiology (DOSE) system will leverage ED syndromic data, as well as line-level emergency department (ED) and inpatient hospitalization discharge data on ED visits already routinely collected by state health departments and the District of Columbia health department. No new data will be systematically collected from EDs, and health departments will be reimbursed by CDC for the burden related to sharing ED data with CDC. DOSE system funds 50 health departments (49 state health departments and the health department of the District of Columbia; ND is the only state not funded of the 50 states). For DOSE Syndromic Surveillance (SyS) data, 48 health departments (OK and CA do not participate in SyS) will rapidly share existing ED data with CDC monthly.

Funding for DOSE 2.0 was awarded in September 2023 and we are requesting an additional three years of data collection to match the OD2A-S NOFO funding period. Revisions are requested to revise the number of eligible states, change the data collection template and revise burden. Based on current data sharing from states we have decreased our burden estimate to 655 from 975 hours.

Estimated Annualized Burden Hours
Type of respondents | Form name | Number of respondents | Number of responses per respondent | Average burden per response (in hours)
Participating health departments sharing aggregate data from NSSP BioSense | Rapid ED overdose data form | 45 | 12 | 30/60
Participating health departments sharing aggregate data from local syndromic data file | Rapid ED overdose data form | 3 | 12 | 3
Participating health department sharing finalized ED and inpatient hospitalization aggregate data on total ED/inpatient hospitalization visits, and metadata on a yearly basis | ED and hospitalization discharge overdose data form | 32 | 1 | 3
Participating health department sharing finalized aggregate data on total inpatient hospitalization visits, and metadata on a yearly basis | Inpatient hospitalization discharge overdose data form | 3 | 1 | 2
Participating health department sharing line-level ED/inpatient hospitalization discharge data (.csv) on drug overdose-related visits (i.e., any visit with an ICD-10-CM code between T36-T50, including all intents, encounters, underdosing, and adverse effects. | Inpatient hospitalization discharge overdose data form | 35 | 1 | 5

Jeffrey M. Zirger,
Lead, Information Collection Review Office, Office of Public Health Ethics and Regulations, Office of Science, Centers for Disease Control and Prevention.

[FR Doc. 2025-10622 Filed 6-10-25; 8:45 am]

BILLING CODE 4163-18-P